DEPARTMENT OF ENERGY

Federal Energy Regulatory Commission

Combined Notice of Filings

Take notice that the Commission has received the following Natural Gas Pipeline Rate and Refund Report filings:

Filings Instituting Proceedings

Docket Numbers: RP15-1191-000.

Applicants: Gulf South Pipeline Company, LP.

Description: Section 4(d) Rate Filing: Amendment to Neg Rate Agmt (Sequent 34693-36) to be effective 8/13/2015.

Filed Date: 8/13/15.

Accession Number: 20150813-5089.

Comments Due: 5 p.m. ET 8/25/15.

Docket Numbers: RP15-1192-000.

Applicants: Northern Natural Gas Company.

Description: Section 4(d) Rate Filing: 20150813 Carlton Filing to be effective 11/1/2015.

Filed Date: 8/13/15.

Accession Number: 20150813-5216.

Comments Due: 5 p.m. ET 8/25/15.

Docket Numbers: RP15-1193-000.

Applicants: Southern LNG Company, L.L.C.

Description: Section 4(d) Rate Filing: Conversion of Premier to DART to be effective 4/1/2016.

Filed Date: 8/14/15.

Accession Number: 20150814-5090.

Comments Due: 5 p.m. ET 8/26/15.

Docket Numbers: RP15-1194-000.

Applicants: Elba Express Company, L.L.C.

Description: Section 4(d) Rate Filing: Conversion of Premier to DART to be effective 4/1/2016.

Filed Date: 8/14/15.

Accession Number: 20150814-5097.

Comments Due: 5 p.m. ET 8/26/15.

Docket Numbers: RP15-1195-000.

Applicants: Texas Eastern Transmission, LP.

Description: Compliance filing OPEN Project 9-15-2015 In-Service Compliance Filing—CP14-68 to be effective 9/15/2015.

Filed Date: 8/14/15.

Accession Number: 20150814-5181.

Comments Due: 5 p.m. ET 8/26/15.

Docket Numbers: RP15-1196-000.

Applicants: Texas Eastern Transmission, LP.

Description: Section 4(d) Rate Filing: OPEN Project 9-15-2015 In-Service Negotiated Rates Filing to be effective 9/15/2015.

Filed Date: 8/14/15.

Accession Number: 20150814-5185.

Comments Due: 5 p.m. ET 8/26/15.

Docket Numbers: RP15-1197-000.

Applicants: Trailblazer Pipeline Company LLC.

Description: Section 4(d) Rate Filing: Wheeling Service to be effective 10/1/2015.

Filed Date: 8/14/15.

Accession Number: 20150814-5223.

Comments Due: 5 p.m. ET 8/26/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-1109-001.

Applicants: Gulf South Pipeline Company, LP.

Description: Compliance filing Compliance Filing in Docket No. RP15-1109-000 to be effective 7/1/2015.

Filed Date: 8/14/15.

Accession Number: 20150814-5093.

Comments Due: 5 p.m. ET 8/26/15.

Docket Numbers: RP15-1153-001.

Applicants: Gulf South Pipeline Company, LP.

Description: Tariff Amendment: Amendment to Filing in Docket No. RP15-1153-000 to be effective 8/1/2015.

Filed Date: 8/14/15.

Accession Number: 20150814-5099.

Comments Due: 5 p.m. ET 8/26/15.

Docket Numbers: RP15-673-001.

Applicants: Equitrans, L.P.

Description: Compliance filing Update LPS and LPS Form of Service Agreements—COMPLIANCE FILING to be effective 8/1/2015.

Filed Date: 8/14/15.

Accession Number: 20150814-5027.

Comments Due: 5 p.m. ET 8/26/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2015.
Kimberly D. Bose,
Secretary.

[FR Doc. 2015-20860 Filed 8-21-15; 8:45 am]

BILLING CODE 6717-01-P